DEPARTMENT OF ENERGY

Federal Energy Regulatory Commission

[Project Nos. 1932-004, 1933-010, and 1934-010]

Southern California Edison Company; Notice Granting Late Intervention

September 30, 2002.

On May 15, 2001, the Commission issued a notice of application ready for environmental analysis and soliciting comments, recommendations, terms and conditions, and prescriptions for Lytle Creek Hydroelectric Project No. 1932, located on the Lytle Creek near the town of Devore, San Bernardino County, California. The notice established August 31, 2001, as the deadline for filing motions to intervene in this proceeding.

On April 22, 2002, the State Water Resources Control Board, filed a motion to intervene in this proceeding. Granting the late motion to intervene will not unduly delay or disrupt the proceeding or prejudice other parties to it. Therefore, pursuant to Rule 214,¹ the motion to intervene filed in this proceeding by the State Water Resources Control Board is granted, subject to the Commission's rules and regulations.

¹ 18 CFR 385.214 (2001).

Linwood A. Watson, Jr.,
Deputy Secretary.

[FR Doc. 02-25260 Filed 10-3-02; 8:45 am]

BILLING CODE 6717-01-P